NATIONAL AERONAUTICS AND SPACE ADMINISTRATION

[Notice (03-125]

NASA Advisory Committee; Notice of Establishment Pursuant to the Federal Advisory Committee Act, 5 U.S.C. App. Secs. 1 et seq.

AGENCY: National Aeronautics and Space Administration (NASA).

The Administrator of the National Aeronautics and Space Administration has determined that the establishment of an Education Advisory Committee is necessary and in the public interest in connection with the performance of duties imposed upon NASA by law. This determination follows consultation with the Committee Management Secretariat, General Services Administration.

Name of Committee: Education Advisory Committee.

Purpose and Objective: The Committee will advise NASA Administrator on matters related to the Agency's educational program. The Committee will draw on the expertise of its members and other sources to provide its advice and recommendations to the Agency. The Committee will hold meetings and make site visits as necessary to accomplish their responsibilities. The Committee will function solely as an advisory body and will comply fully with the provisions of the Federal Advisory Committee Act.

Balanced Membership Plans: The Committee will consist of non-NASA employees. In addition, there may be associate members selected for Committee Subcommittees or Panels. The Committee may also request appointment of consultants to support specific tasks. Members of the Committee, Subcommittees and Panels will be chosen from among industry, academia, and government with recognized knowledge and expertise in fields relevant to education. Total membership will reflect a balanced view.

Duration: Continuing.

Responsible NASA Official: Dr. Adena Williams Loston, Associate Administrator of the Office of Education, National Aeronautics and Space Administration, 300 E Street, SW., Washington, DC 20546, telephone 202/358-0103.

June W. Edwards,
Advisory Committee Management Officer, National Aeronautics and Space Administration.

[FR Doc. 03-25270 Filed 10-3-03; 8:45 am]

BILLING CODE 7510-01-P